DEPARTMENT OF DEFENSE

Department of the Air Force

[USAF-2006-0016]

Privacy Act of 1974; System of Records

AGENCY: Department of the Air Force, DoD.

ACTION: Notice to amend systems of records.

SUMMARY: The Department of the Air Force is amending a system of records notice in its existing inventory of record systems subject to the Privacy Act of 1974, (5 U.S.C. 552a), as amended.

DATES: This proposed action will be effective without further notice on January 10, 2007 unless comments are received which result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novella Hill at (703) 588-7855.

SUPPLEMENTARY INFORMATION: The Department of the Air Force systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: December 4, 2006.
C.R. Choate,
Alternate OSD Federal Register Liaison Officer, Department of Defense.

F036 AETC I

System name:

Cadet Records (November 23, 2005, 70 FR 70792).

Changes:

* * * * *

Exemptions claimed for this system:

Replace entry with ‘Parts of this system may be exempt pursuant to 5 U.S.C. 552a(k)(5), but only to the extent that disclosure would reveal the identity of a confidential source.’

* * * * *

F036 AETF I

System name:

Cadet Records.

System location:

Air Force Reserve Officer Training Corps, 551 East Maxwell Boulevard, Maxwell Air Force Base, AL 36112-6110, and portions pertaining to each Reserve Officer Training Corps detachment located at respective detachments.

Official mailing addresses are published as an appendix to the Air Force's compilation of systems of records notices.

Categories of individuals covered by the system:

Air Force Reserve Officer Training Corps (AFROTC) cadets applying for, or enrolled or previously enrolled within the past three years, in the professional officers course or the general military course, if the latter participation was in a scholarship status.

Categories of records in the system:

Applications for enrollment in the Air Force Reserve Officers' Training Corps (AFROTC) courses, applications for the AFROTC scholarship program substantiation records of qualification for the courses or programs, acceptances of applications, awards of scholarships, records attesting to medical, academic, moral and civic qualifications, records recording progress in flying instruction, Euro-NATO Joint Jet Pilot Training (ENJJPT) application data, academic curriculum and leadership training, counseling summaries, records of disenrollment from other officer candidate training; records of separation or discharge from officer candidate training; records of separation or discharge of prior service members; financial record data, certification of degree requirements; Regular appointment nomination data, records tendering and accepting commissions, records verifying national agency checks or background investigation, records required or proffered during investigations for disenrollment, legal opinions, letters of recommendations, corroboration by civil authorities, awards, citations; and allied papers.

Field training administration records consist of student performance reports.

Authority for maintenance of the system:

10 U.S.C. Chapter 33, Original Appointments of Regular Officers in Grades Above Warrant Officers; 10 U.S.C. Chapter 103, Senior Reserve Officers' Training Corps; E.O. 9397 (SSN); Air Force Instruction 36-2011, Air Force Reserve Officers Training Corps (AFROTC); and Air Force Officer Accession and Training School Instruction 36-2011, Administration of Senior Air Force Cadets.

Purpose(s):

Used for recruiting and qualifying a candidate for acceptance as an AFROTC cadet, continuing the cadet in the program and awarding an Air Force commission.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Air Force's compilation of record system notices apply to this system.

Policies and practices for storing, retrieving, accessing, retaining, and disposing of records in the system:

Storage:

Maintained in file folders, note books/binders, in computers and on computer output products.

Retrievability:

Retrieved by name, Social Security Number and detachment number.

Safeguards:

Records are accessed by person(s) responsible for servicing the record system in performance of their official duties and by authorized personnel who are properly screened and cleared for need-to-know. Records are stored in locked rooms and cabinets. Those in computer storage devices are protected by computer system software.

Retention and Disposal:

Records at unit of assignment are destroyed one year after acceptance of commission or one year after disenrollment. Records at HQ AFROTC for disenrolled cadets are destroyed after three years. Computer records are destroyed when no longer needed. Records are destroyed by tearing into pieces, shredding, pulping, macerating or burning. Computer records are destroyed by erasing, deleting or overwriting.

System manager(s) and address:

Director of Senior Program, Air Force Reserve Officer Training Corps, 551 East Maxwell Boulevard, Maxwell Air Force Base, AL 36112-6110, and Commander of appropriate AFROTC detachment.

Official mailing addresses are published as an appendix to the Air Force's compilation of systems of records notices.

Notification procedure:

Individuals seeking to determine whether this system of records contains information on them should address inquiries to the AFROTC Detachment Commander at location of assignment. Official mailing addresses are published as an appendix to the Air Force's compilation of systems of records notices.

Request for information involving an investigation for disenrollment should be addressed to Commander, Air Force Reserve Officer Training Corps, 551 East Maxwell Boulevard, Maxwell Air Force Base, AL 36112-6110. Requests should include full name and SSN.

Record access procedures:

Individuals seeking to access records about themselves contained in this system should address requests to the AFROTC Detachment Commander at locations of assignment. Official mailing addresses are published as an appendix to the Air Force's compilation of systems of records notices.

Request for information involving an investigation for disenrollment should be addressed to Commander, Air Force Reserve Officer Training Corps, 551 East Maxwell Boulevard, Maxwell Air Force Base, AL 36112-6110. Requests should include full name and SSN.

Contesting record procedures:

The Air Force rules for accessing records, and for contesting contents and appealing initial agency determinations are published in Air Force Instruction 33-332; 32 CFR part 806b; or may be obtained from the system manager.

Record Source Categories:

Sources of records in the system are educational institutions, secondary and higher learning; government agencies; civilian authorities; financial institutions; previous employers; individual recommendations, interviewing officers; and civilian medical authorities.

Exemptions claimed for the system:

Parts of this system may be exempt pursuant to 5 U.S.C. 552a(k)(5), but only to the extent that disclosure would reveal the identity of a confidential source.

[FR Doc. 06-9621 Filed 12-8-06; 8:45 am]

BILLING CODE 5001-06-M